Memorandum of October 3, 2022

Presidential Waiver of Statutory Requirements Pursuant to Section 303 of the Defense Production Act of 1950, as Amended

Memorandum for the Secretary of Defense

By the authority vested in me as President by the Constitution and the laws of the United States of America, including section 303 of the Defense Production Act of 1950, as amended (the “Act”) (50 U.S.C. 4533), I hereby determine, pursuant to section 303(a)(7)(B) of the Act, that action is necessary to increase the production capacity of material critical to support the defense against adversarial aggression and that a shortfall in this area would severely impair national defense capability. Therefore, I waive the requirements of sections 303(a)(5) and 303(a)(6) of the Act for the purpose of expanding and accelerating the domestic production capability of critical weapons and equipment needed for national defense.

You are authorized and directed to publish this memorandum in the Federal Register.

THE WHITE HOUSE,

Washington, October 3, 2022

[FR Doc. 2022-21912

Filed 10-5-22; 8:45 am]

Billing code 5001-06-P